DEPARTMENT OF COMMERCE

National Oceanic and Atmospheric Administration

50 CFR Part 600

[I.D. 020403B]

Magnuson-Stevens Act Provisions; General Provisions for Domestic Fisheries; Application for Exempted Fishing Permits (EFPs)

AGENCY: National Marine Fisheries Service (NMFS), National Oceanic and Atmospheric Administration (NOAA), Commerce.

ACTION: Notification of two proposals for EFPs to conduct experimental fishing; request for comments.

SUMMARY: The Administrator, Northeast Region, NMFS (Regional Administrator) has made a preliminary determination that the EFP applications from the University of Rhode Island (URI) contain all the required information and warrant further consideration. The Regional Administrator has also made a preliminary determination that the activities authorized under the EFPs would be consistent with the goals and objectives of the Northeast (NE) Summer Flounder, Scup, and Black Sea Bass Fishery Management Plan (FMP), and does not detrimentally affect the well being of any stock of fish likely to be taken during the experiment. Therefore, NMFS announces that the Regional Administrator proposes to issue two EFPs that would allow vessels to conduct fishing operations that are otherwise restricted by the regulations governing the fisheries of the NE United States. The first EFP, hereafter referred to as the summer flounder EFP, would allow for an exemption from the NE summer flounder gear restrictions specified at 50 CFR 648.104. The second EFP, hereafter referred to as the scup EFP, would allow for an exemption from the NE scup closure restrictions specified at 50 CFR 648.121.

For the summer flounder EFP, the exempted fishing activity would support research to test large mesh experimental codends to determine their ability to reduce regulatory discards and bycatch of other species when fishing for commercial summer flounder. The testing will occur off the coast of Rhode Island. For the scup EFP, the exempted fishing activity would support research to test large mesh experimental codends for their ability to reduce sublegal scup discards when fishing for commercial scup. The testing will occur off the coast of Southern New England and the inshore waters of Rhode Island. Regulations under the Magnuson-Stevens Fishery Conservation and Management Act require publication of this notification to provide interested parties the opportunity to comment on applications for proposed EFPs.

DATES: Comments on these documents must be received on or before March 10, 2003.

ADDRESSES: Written comments should be sent to Patricia A. Kurkul, Regional Administrator, NMFS, Northeast Regional Office, 1 Blackburn Drive, Gloucester, MA 01930. Mark the outside of the envelope either “Comments on University of Rhode Island Summer Flounder Codend Mesh Size EFP Proposal,” or “Comments on University of Rhode Island Scup Codend Mesh Size EFP Proposal.”

FOR FURTHER INFORMATION CONTACT: Jason Blackburn, Fishery Management Specialist, (978) 281-9326, fax (978) 281-9135, e-mail: jason.blackburn@noaa.gov.

SUPPLEMENTARY INFORMATION: The applications for two EFPs were submitted by URI for research being funded by awards under the Mid-Atlantic Fishery Management Council's Research Set-Aside (RSA) program administered by the NMFS Northeast Region.

Summer Flounder EFP Proposal

The applicant is requesting an exemption for four commercial vessels from the NE summer flounder gear restrictions specified at 50 CFR 648.104 for 24 days of at-sea gear testing. The objective of the research is to test large mesh experimental codends to determine their ability to reduce regulatory discards and bycatch of other species. The experimental design will test the selectivity of four experimental codend mesh sizes and shapes, 6.5 and 7.0 inch diamond mesh, and 7.0 and 8.0 inch square mesh, compared to the selectivity of a control net with a 3-inch small mesh codend. The sea trials would be conducted off the coast of Rhode Island during the months of April through September 2003.

It is estimated that the total catch of summer flounder will be 24,000 lb (10886 kg), with an estimated bycatch of 5,000 lb (2268 kg) of scup, 2,000 lb (907 kg) of longfin squid, and 1,000 lb (454 kg) of black sea bass. These fish will be landed in Rhode Island. It is further estimated that 2,000 lb (907 kg) of summer flounder, 5,000 lb (2268 kg) of scup, and 1,000 lb (454 kg) of black sea bass will be discarded during the research operations. Two URI fisheries researchers would be aboard each vessel during all experimental sea trials. All the areas surveyed during this experiment will be open to fishing, and only fish from legal open seasons will be retained from the Exclusive Economic Zone.

This experimental work is important because it could lead to the development of gear that could improve the size selection of the nets for summer flounder, reduce regulatory discards, and reduce bycatch of other fish species.

Scup EFP Proposal

The applicant is requesting an exemption for one commercial vessel from the NE scup closure restrictions specified at 50 CFR 648.121 for 6 days of at-sea gear testing. The objective of the research is to compare large mesh experimental codends, to a legal sized codend, to determine their ability to reduce sublegal scup discards. The experimental design will test two experimental codend mesh sizes, 6.0 inch and 6.5 inch square mesh. The sea trials would be conducted off the coast of Rhode Island during the months of April through July 2003.

It is estimated that the total catch of scup will be 20,000 lb (9,072 kg), with an estimated bycatch of 1,000 lb (454 kg) of squid, 1,000 lb (454 kg) of summer flounder, and 1,200 lb (544 kg) of black sea bass. These fish will be landed in Rhode Island. It is further estimated that 2,000 lb (907 kg) of scup, and minimal amounts of other species, will be discarded during the research operations. Two URI fisheries researchers would be aboard each vessel during all experimental sea trials. With the exception of scup, only fish from legal open seasons will be retained from the Exclusive Economic Zone.

This experimental work is important because it could lead to the development of gear that could reduce sublegal scup discards, and thereby reduce scup mortality.

Based on the results of the EFPs, these actions could result in future rulemaking.

Authority: 16 U.S.C. 1801 et seq.

Dated: February 13, 2003.
Richard W. Surdi,
Acting Director, Office of Sustainable Fisheries, National Marine Fisheries Service.

[FR Doc. 03-4138 Filed 2-20-03; 8:45 am]

BILLING CODE 3510-22-S